COMMODITY FUTURES TRADING COMMISSION

Sunshine Act Meeting

Agency Holding the Meeting: Commodity Futures Trading Commission.

Time and Date: 10 a.m., Tuesday, July 2, 2002.

Place: 1155 21st St., NW., Washington, DC, Lobby Level Hearing Room.

Status: Open.

Matters To Be Considered:

—Customer Margin Rules Relating to Security Futures

—Applicability of CFTC and SEC Customer Protection, Record keeping, Reporting, and Bankruptcy Rules and the Securities Investor Protection Act of 1970 to Accounts Holding Security Futures Products

Contact Person for More Information: Jean A. Webb, 202-418-5100.

Jean A. Webb,
Secretary of the Commission.

[FR Doc. 02-16153 Filed 6-21-02; 2:43 pm]

BILLING CODE 6351-01-M